DEPARTMENT OF COMMERCE

International Trade Administration

[A-570-016]

Certain Passenger Vehicle and Light Truck Tires From the People's Republic of China: Preliminary Results of Antidumping Duty Administrative Review, Partial Rescission, and Preliminary Determination of No Shipments; 2021-2022

AGENCY: Enforcement and Compliance, International Trade Administration, Department of Commerce.

SUMMARY: The U.S. Department of Commerce (Commerce) preliminarily finds that certain exporters of passenger vehicle and light truck tires (passenger tires) from the People's Republic of China (China) made sales of subject merchandise at prices below normal value (NV) during the period of review (POR) August 1, 2021, through July 31, 2022. Commerce also preliminarily finds that eight companies had no shipments of subject merchandise during the POR, and that it is appropriate to rescind this review with respect to six companies because all requests for review of these companies were withdrawn. We invite interested parties to comment on these preliminary results.

DATES: Applicable September 7, 2023.

FOR FURTHER INFORMATION CONTACT: Terre Keaton Stefanova or Caroline Carroll, AD/CVD Operations, Office IX, Enforcement and Compliance, International Trade Administration, U.S. Department of Commerce, 1401 Constitution Avenue NW, Washington, DC 20230; telephone: (202) 482-1280 or (202) 482-4948, respectively.

SUPPLEMENTARY INFORMATION:

Background

On October 11, 2022, based on timely requests for review, in accordance with 19 CFR 351.221(c)(1)(i), we initiated this administrative review of the antidumping duty order on passenger tires from China.¹ This review covers 43 exporters of the subject merchandise. In April 2023, we extended the preliminary results of this review to no later than August 31, 2023.²

¹ See Initiation of Antidumping and Countervailing Duty Administrative Reviews, 87 FR 61278 (October 11, 2022); see also Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

² See Memorandum, “Extension of Deadline for Preliminary Results of the 2021-2022 Antidumping Duty Administrative Review,” dated April 24, 2023.

For a complete description of the events that followed the initiation of this administrative review, see the Preliminary Decision Memorandum.³ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included in Appendix I.

³ See Memorandum, “Decision Memorandum for the Preliminary Results of the Antidumping Duty Administrative Review of Certain Passenger Vehicle and Light Truck Tires from the People's Republic of China and Preliminary Determination of No Shipments; 2021-2022,” dated concurrently with, and hereby adopted by, this notice (Preliminary Decision Memorandum).

Scope of the Order

The products covered by the Order are passenger tires from China. A full description of the scope of the Order is contained in the Preliminary Decision Memorandum.⁴

⁴ See Preliminary Decision Memorandum at “Scope of the Order.”

Partial Rescission of Administrative Review

Pursuant to 19 CFR 351.213(d)(1), Commerce will rescind an administrative review, in whole or in part, if a party who requested the review withdraws the request within 90 days of the date of publication of notice of initiation of the requested review in the Federal Register. In November and December 2022, all parties withdrew their requests for review by the 90-day withdrawal deadline for the following companies: ⁵ (1) Qingdao Fullrun Tyre Corp. Ltd. (Fullrun); (2) Qingdao Lakesea Tyre Co., Ltd. (Lakesea); (3) Roadclaw Tyre (Hong Kong) Limited (Roadclaw); (4) Shouguang Firemax Tyre Co., Ltd. (Firemax); (5) Winrun Tyre Co., Ltd. (Winrun); and (6) Zhaoqing Junhong Co., Ltd. (Junhong). Because all parties withdrew their requests for a review of these exporters, consistent with 19 CFR 351.213(d)(1), Commerce is rescinding this review, in part, with respect to these companies.

⁵ See Roadclaw's and Winrun's Letter, “Withdrawal of Request for Administrative Review,” dated November 15, 2022; Petitioner's Letter, “Withdrawal of One Request for Administrative Review,” dated November 23, 2022; and Fullrun's, Junhong's, and Lakesea's Letter, “Withdrawal of Request for Administrative Review,” dated December 3, 2022.

Methodology

Commerce is conducting this review in accordance with section 751(a)(1)(B) of the Tariff Act of 1930, as amended (the Act) and 19 CFR 351.213. We calculated constructed export prices in accordance with section 772(b) of the Act. Because China is a non-market economy (NME) country, within the meaning of section 771(18) of the Act, we calculated NV in accordance with section 773(c) of the Act. For a full description of the methodology underlying our conclusions, see the Preliminary Decision Memorandum.

Preliminary Determination of No Shipments

In October and November 2022, eight companies timely filed certifications that they had no exports, shipments, sales, or entries of subject merchandise to the United States during the POR.⁶ Based on their certifications and our analysis of U.S. Customs and Border Protection (CBP) information, we preliminarily determine that the following companies had no shipments of subject merchandise during the POR: Changfeng, CIC, Nama, Shandong Duratti, Shandong Yongsheng, and Transtone.

⁶ See Qingdao Nama Industrial Co., Ltd.'s (Nama's) Letter, “Submission of Statement of No Shipments,” dated October 26, 2022; Crown International Corporation's (CIC's) Letter, “Submission of Statement of No Shipments,” dated October 26, 2022; Triangle Tyre Co., Ltd.'s (Triangle Tyre's) Letter, “No Shipment Certification,” dated November 4, 2022; Prinx Chengshan (Shandong) Tire Company Ltd.'s (PCT's) Letter, “Notice of No Sales,” dated November 8, 2022; Shandong Yongsheng Rubber Group Co., Ltd's (Shandong Yongsheng's) Letter, “Notice of No Sales,” dated November 8, 2022; Shandong Changfeng Tyres Co., Ltd.'s (Changfeng's) Letter, “No Sales Certification,” dated November 10, 2022; Shandong Duratti Rubber Corporation Co. Ltd.'s (Shandong Duratti's) Letter, “No Sales Certification,” dated November 10, 2022; and Shandong Transtone Tyre Co., Ltd.'s (Transtone's) Letter, “No Sales Certification,” dated November 10, 2022.

In addition, CBP information on the record indicated that PCT and Triangle Tyre had entries during the POR.⁷ Therefore, on November 23, 2022, and August 3, 2023, respectively, we issued supplemental questionnaires regarding PCT's and Triangle Tyre's POR entries.⁸ On December 22, 2022, and August 14, 2023, respectively PCT and Triangle Tyre submitted timely responses.⁹ Based on this information, Commerce preliminarily determines that PCT and Triangle Tyre had no entries during the POR.

⁷ See Memorandum, “No Shipment Inquiry for Triangle Tyre Co., Ltd during the period 08/01/2021 through 07/31/2022,” dated July 31, 2023, and Memorandum, “No Shipment Inquiry for Prinx Chengshan (Shandong) Tire Co., Ltd. during the period 08/01/2021 through 07/31/2022,” dated July 18, 2023.

⁸ See Commerce's Letter, “Prinx Chengshan (Shandong) Tire Company Ltd. No Shipment Certification Supplemental Questionnaire,” dated November 23, 2022; see Commerce's Letter, “Triangle Tyre Co. Ltd.'s No Shipment Certification Supplemental Questionnaire,” dated August 3, 2023.

⁹ See PCT's Letter, “Submission of No Shipment Certification Supplemental Questionnaire,” dated December 22, 2022; and Triangle Tyre's Letter, “Response to Supplemental Questionnaire Regarding Triangle Tyre's No Shipment Certification for the Administrative Review,” dated August 14, 2023.

Consistent with Commerce's practice in NME cases, we are not preliminarily rescinding this administrative review with respect to the companies for which we preliminarily found had no shipments. Instead, we intend to complete the review and issue appropriate instructions to CBP based on the final results of this review.¹⁰

¹⁰ See Non-Market Economy Antidumping Proceedings: Assessment of Antidumping Duties, 76 FR 65694, 65694-95 (October 24, 2011); see also the “Assessment Rates” section, below.

Separate Rates

As discussed in the Preliminary Decision Memorandum, Commerce preliminarily finds that Zhongce Rubber Group Co., Ltd. (Zhongce) has not established its eligibility for a separate rate. Moreover, Commerce preliminarily finds that 14 other companies under review did not establish their eligibility for a separate rate because they failed to provide either a separate rate application, a separate rate certification, or a no-shipment certification (if they were already eligible for a separate rate). As such, we preliminarily determine that Zhongce and these 14 other companies are part of the China-wide entity. See Appendix III for a complete list of these 15 companies.

Commerce preliminarily determines that the following companies have demonstrated their eligibility for a separate rate in this review: ¹¹ (1) Anhui Jichi Tire Co., Ltd.; (2) Giti; ¹² (3) Hankook Tire China Co., Ltd.; (4) Jiangsu Hankook Tire Co., Ltd.; (5) Qingdao Keter International Co., Limited; (6) Koryo International Industrial Limited; (7) Mayrun Tyre (Hong Kong) Limited; (8) Qingdao Sentury Tire Co., Ltd and Sentury (Hong Kong) Trading Co., Limited; (9) Qingdao Sunfulcess Tyre Co., Ltd.; (10) Shandong Haohua Tire Co., Ltd.; (11) Shandong Linglong Tyre Co., Ltd.; (12) Shandong New Continent Tire Co., Ltd.; (13) Shandong Province Sanli Tire Manufactured Co., Ltd.; and (14) Sumitomo.¹³

¹¹ See Preliminary Decision Memorandum at “Separate Rates.”

¹² The Giti companies are: Giti Tire Global Trading Pte. Ltd.; Giti Radial Tire (Anhui) Company Ltd.; Giti Tire (Fujian) Company Ltd.; Giti Tire (Hualin) Company, Ltd.; Giti Tire Greatwall Company. Ltd.; Giti Tire (Anhui) Company; Giti Tire (Yinchuan) Company Ltd.; and Giti Tire (Chongqing) Company Ltd. (collectively, Giti).

¹³ The Sumitomo companies are: Sumitomo Rubber Industries Ltd.; Sumitomo Rubber (Hunan) Co., Ltd.; and Sumitomo Rubber (Changshu) Co., Ltd. (collectively, Sumitomo).

The statute and Commerce's regulations do not identify the dumping margin to apply to respondents not selected for individual examination when Commerce limits its examination in an administrative review, pursuant to section 777A(c)(2) of the Act. Generally, Commerce looks to section 735(c)(5) of the Act, which provides instructions for calculating the all-others rate in an investigation, for guidance when determining the dumping margin for respondents that are not individually examined in an administrative review. Section 735(c)(5)(A) of the Act states that the all-others rate should be calculated by averaging the weighted-average dumping margins for individually-examined respondents, excluding dumping margins that are zero, de minimis, or based entirely on facts available. For these preliminary results, we preliminarily calculated a weighted-average dumping margin for the separate rate respondents using the calculated rates of the mandatory respondents, Giti and Sumitomo, which are not zero or de minimis, or determined entirely on the basis of facts available. See Appendix II for the list of these companies.

China-Wide Entity

Commerce's policy regarding conditional review of the China-wide entity applies to this administrative review.¹⁴ Because no party requested a review of the China-wide entity, the China-wide entity is not under review. Therefore, the rate previously established for the China-wide entity (i.e., 76.46 percent) remains the China-wide entity rate this review.¹⁵

¹⁴ See Antidumping Proceedings: Announcement of Change in Department Practice for Respondent Selection in Antidumping Duty Proceedings and Conditional Review of the Nonmarket Economy Entity in NME Antidumping Duty Proceedings, 78 FR 65963 (November 4, 2013).

¹⁵ See Order, 80 FR at 47906.

Preliminary Results of Review

We preliminarily determine that the following estimated weighted-average dumping margins exist for the period August 1, 2020, through July 31, 2021:

Exporter | Weighted- average dumping margin (percent)
Giti Tire Global Trading Pte. Ltd.; Giti Radial Tire (Anhui) Company Ltd.; Giti Tire (Fujian) Company Ltd.; Giti Tire (Hualin) Company, Ltd.; Giti Tire Greatwall Company. Ltd.; Giti Tire (Anhui) Company; Giti Tire (Yinchuan) Company Ltd.; and Giti Tire (Chongqing) Company Ltd | 104.21
Sumitomo Rubber Industries Ltd.; Sumitomo Rubber (Hunan) Co., Ltd.; and Sumitomo Rubber (Changshu) Co., Ltd | 68.48
Separate Rate Companies ¹⁶ | 85.66

Disclosure and Public Comment

¹⁶ See Appendix II for the list of these companies.

Commerce intends to disclose the calculations performed for these preliminary results to interested parties within five days after the date of publication of this notice in the Federal Register, in accordance with 19 CFR 351.224(b). Interested parties may submit case briefs or other written comments within 30 days after the date of publication of these preliminary results of review.¹⁷ Rebuttal briefs, limited to issues raised in the case briefs, may be filed no later than seven days after the date for filing case briefs.¹⁸ Parties who submit case briefs or rebuttal briefs in this proceeding are encouraged to submit with each argument: (1) a statement of the issue; (2) a brief summary of the argument; and (3) a table of authorities. Case and rebuttal briefs should be filed using ACCESS.¹⁹ Note that Commerce has temporarily modified certain of its requirements for serving documents containing business proprietary information, until further notice.²⁰

¹⁷ See 19 CFR 351.309(c)(1)(ii).

¹⁸ Commerce is exercising its discretion, under 19 CFR 351.309(d)(1), to alter the time limit for filing of rebuttal briefs.

¹⁹ See 19 CFR 351.303 (for general filing requirements).

²⁰ See Temporary Rule Modifying AD/CVD Service Requirements Due to COVID-19; Extension of Effective Period, 85 FR 41363 (July 10, 2020).

Pursuant to 19 CFR 351.310(c), interested parties who wish to request a hearing must submit a written request to the Assistant Secretary for Enforcement and Compliance, filed electronically via ACCESS within 30 days after the date of publication of this notice.²¹ Hearing requests should contain: (1) the party's name, address, and telephone number; (2) the number of participants; and (3) a list of issues to be discussed. Issues raised in the hearing will be limited to those raised in the respective case and rebuttal briefs. If a request for a hearing is made, parties will be notified of the time and date for the hearing.²²

²¹ See 19 CFR 351.310(c).

²² See 19 CFR 351.310(d).

Final Results

Commerce intends to issue the final results of this administrative review, including the results of its analysis of all issues raised in any written briefs, not later than 120 days after the publication of these preliminary results in the Federal Register, unless otherwise extended.²³

²³ See section 751(a)(3)(A) of the Act.

Assessment Rates

Upon issuing the final results, Commerce shall determine, and CBP shall assess, antidumping duties on all appropriate entries covered by this review.²⁴

²⁴ See 19 CFR 351.212(b)(1).

For Giti and Sumitomo, Commerce calculated importer-specific ad valorem duty assessment rates based on the ratio of the total amount of dumping calculated for the importer's examined sales to the total entered value of those sales. Where either a respondent's weighted-average dumping margin is zero or de minimis within the meaning of 19 CFR 351.106(c)(1), or an importer-specific rate is zero or de minimis, we will instruct CBP to liquidate the appropriate entries without regard to antidumping duties.²⁵

²⁵ Id.

For respondents not individually examined in this administrative review that qualified for a separate rate, the assessment rate will be equal to the weighted-average dumping margin calculated using the rates assigned to Giti and Sumitomo in the final results of this review.²⁶

²⁶ See Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

Pursuant to Commerce's assessment practice,²⁷ for entries that were not reported in the U.S. data submitted by Giti and Sumitomo, we will instruct to CBP to liquidate such entries at the China-wide rate. Additionally, where Commerce determines that an exporter under review had no shipments of subject merchandise to the United States during the POR, any suspended entries of subject merchandise that entered under that exporter's CBP case number during the POR will be liquidated at the dumping margin assigned to the China-wide entity.

²⁷ See Non-Market Economy Antidumping Proceedings: Assessment of Antidumping Duties, 76 FR 65694 (October 24, 2011), for a full discussion of this practice.

We intend to liquidate entries containing subject merchandise exported by the companies under review that we determine in the final results to be part of the China-wide entity at the China-wide assessment rate of 76.46 percent.

In accordance with section 751(a)(2)(C) of the Act, the final results of this review shall be the basis for the assessment of antidumping duties on entries of merchandise covered by the final results of this review and for future deposits of estimated antidumping duties, where applicable.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this administrative review for all shipments of the subject merchandise from China entered, or withdrawn from warehouse, for consumption on or after the publication date, as provided for by section 751(a)(2)(C) of the Act: (1) for the companies listed above that have a separate rate, the cash deposit rate will be that rate established in the final results of this review (except, if the rate is zero or de minimis, then a cash deposit rate of zero will be established for that company); (2) for previously investigated or reviewed exporters not listed in the final results of review that have separate rates, the cash deposit rate will continue to be the exporter's weighted-average dumping margin published of the most recently-completed segment of this proceeding; (3) for all Chinese exporters of subject merchandise that have not been found to be entitled to a separate rate, the cash deposit rate will be the rate for China-wide entity (i.e., 76.46 percent); ²⁸ and (4) for all exporters of subject merchandise which are not located in China and are not eligible for a separate rate, the cash deposit rate will be the rate applicable to Chinese exporter(s) that supplied that non-Chinese exporter. These deposit requirements, when imposed, shall remain in effect until further notice.

²⁸ See Order, 80 FR at 47906.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties and/or an increase in the amount of antidumping duties by the amount of the countervailing duties.

Notification to Interested Parties

We are issuing and publishing these results in accordance with sections 751(a)(1) and 777(i)(1) of the Act and 19 CFR 351.213 and 19 CFR 351.221(b)(4).

Dated: August 30, 2023.
Lisa W. Wang,
Assistant Secretary for Enforcement and Compliance.

Appendix I

List of Topics Discussed in the Preliminary Decision Memorandum

I. Summary

II. Background

III. Scope of the Order

IV. Discussion of the Methodology

V. Currency Conversion

VI. Recommendation

Appendix II

Separate Rate Companies

1. Anhui Jichi Tire Co., Ltd.

2. Hankook Tire China Co., Ltd.

3. Jiangsu Hankook Tire Co., Ltd.

4. Koryo International Industrial Limited

5. Mayrun Tyre (Hong Kong) Limited

6. Qingdao Keter International Co., Limited

7. Qingdao Sentury Tire Co., Ltd.; Sentury (Hong Kong) Trading Co., Limited

8. Qingdao Sunfulcess Tyre Co., Ltd.

9. Shandong Haohua Tire Co., Ltd.

10. Shandong Linglong Tyre Co., Ltd.

11. Shandong New Continent Tire Co., Ltd.

12. Shandong Province Sanli Tire Manufactured Co., Ltd.

Appendix III

Companies Preliminary Found To Be Part of the China-Wide Entity

1. Aeolus Tyre Corp., Ltd.

2. Double Coin Tire Ltd.

3. Hongtyre Group Co.

4. Nankang (Zhangjiagang Free Trade Zone) Rubber Industrial Co., Ltd.

5. Qingdao Crowntyre Industries Co., Ltd.

6. Shandong Habilead Rubber Co., Ltd.

7. Shangdong Hengfeng Rubber & Plastic Co., Ltd.

8. Shangdong Hengyu Science & Technology Co., Ltd.

9. Shangdong Longyue Rubber Co., Ltd. (aka ZODO Tire Co., Ltd.)

10. Shangdong Yongfeng Tyres Co., Ltd.

11. Shanghai Tire & Rubber (Group) Ltd.

12. Tianjin Wanda Tyre Group Company, Ltd.

13. Tyrechamp Group Co., Limited

14. Wendeng Sanfeng Tyre Co., Ltd.

15. Zhongce Rubber Group Co., Ltd.

[FR Doc. 2023-19208 Filed 9-6-23; 8:45 am]

BILLING CODE 3510-DS-P